DEPARTMENT OF COMMERCE

International Trade Administration

[C-428-848]

Forged Steel Fluid End Blocks From the Federal Republic of Germany: Final Results of the Countervailing Duty Administrative Review; 2023

AGENCY: Enforcement and Compliance, International Trade Administration, Department of Commerce.

SUMMARY: The U.S. Department of Commerce (Commerce) determines that countervailable subsidies were provided to BGH Edelstahl Siegen GmbH (BGH), a producer and exporter of forged steel fluid end blocks (fluid end blocks) from the Federal Republic of Germany (Germany). The period of review (POR) is January 1, 2023, through December 31, 2023.

DATES: Applicable July 28, 2025.

FOR FURTHER INFORMATION CONTACT: Rachel Accorsi or Shane Subler, AD/CVD Operations, Office VIII, Enforcement and Compliance, International Trade Administration, Department of Commerce, 1401 Constitution Avenue NW, Washington, DC 20230; telephone: (202) 482-3149 or (202) 482-6241, respectively.

SUPPLEMENTARY INFORMATION:

Background

On December 19, 2024, Commerce published the Preliminary Results of this administrative review in the Federal Register, and invited interested parties to comment.¹ On December 9, 2024, Commerce tolled the deadline to issue the final results in this administrative review by 90 days.² On July 3, 2025, Commerce extended the deadline for these final results to July 22, 2025.³ For a complete description of the events that occurred subsequent to the Preliminary Results, see the Issues and Decision Memorandum.⁴

¹ See Forged Steel Fluid End Blocks from Germany: Preliminary Results and Recission, In Part of Countervailing Duty Administrative Review; 2023, 89 FR 103780 (December 19, 2024) (Preliminary Results), and accompanying Preliminary Decision Memorandum (PDM).

² See Memorandum, “Tolling of Deadlines for Antidumping and Countervailing Duty Proceedings,” dated December 9, 2024.

³ See Memorandum, “Extension of Deadline for Final Results of Countervailing Duty Administrative Review,” dated July 3, 2025.

⁴ See Memorandum, “Issues and Decision Memorandum for the Final Results of the Administrative Review of the Countervailing Duty Order on Forged Steel Fluid End Blocks from Germany; 2023,” dated concurrently with, and hereby adopted by, this notice (Issues and Decision Memorandum).

Scope of the Order ⁵

⁵ See Forged Steel Fluid End Blocks from the People's Republic of China, the Federal Republic of Germany, India, and Italy: Countervailing Duty Orders, and Amended Final Affirmative Countervailing Duty Determination for the People's Republic of China, 86 FR 7535 (January 29, 2021) (Order).

The products covered by the Order are fluid end blocks from Germany. A full description of the scope of the Order is contained in the Issues and Decision Memorandum.

Analysis of Comments Received

All issues raised by interested parties in briefs are addressed in the Issues and Decision Memorandum. A list of the issues addressed in the Issues and Decision Memorandum is provided in an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments received from interested parties and the evidence on the record, we have not made any changes to the Preliminary Results. The reasons for this conclusion are explained in the Issues and Decision Memorandum. Accordingly, we made no changes to the countervailable subsidy rate calculations from the Preliminary Results for mandatory respondent BGH.⁶

⁶ See Memorandum, “Preliminary Results Calculations for BGH Edelstahl Siegen GmbH,” dated December 12, 2024.

Methodology

Commerce conducted this review in accordance with section 751(a)(1)(A) of the Tariff Act of 1930, as amended (the Act). For each of the subsidy programs found to be countervailable, we find that there is a subsidy, i.e., a government-provided financial contribution that gives rise to a benefit to the recipient, and that the subsidy is specific.⁷ The Issues and Decision Memorandum contains a full description of the methodology underlying Commerce's conclusions.

⁷ See sections 771(5)(B) and (D) of the Act regarding financial contribution; section 771(5)(E) of the Act regarding benefit; and section 771(5A) of the Act regarding specificity.

Final Results of Review

In accordance with 19 CFR 351.221(b)(5), we calculated an individual net countervailable subsidy rate for BGH. Commerce determines that, during the POR, the net countervailable subsidy rate for the producer/exporter under review is as follows:

Company | Subsidy rate (percent ad valorem)
BGH Edelstahl Siegen GmbH ⁸ | 3.51

Disclosure

Normally, Commerce discloses to interested parties the calculations performed in connection with the final results of a review within five days of the date of publication of the notice in the Federal Register in accordance with 19 CFR 351.224(b). However, because Commerce has not made any changes to the Preliminary Results, there are no new calculations to disclose.

⁸ Commerce found the following companies to be cross-owned with BGH Edelstahl Siegen GmbH: Boschgotthardshütte O. Breyer GmbH, BGH Edelstahlwerke GmbH, RPS Rohstoff-, Press- und Schneidbetrieb Siegen GmbH, and SRG Schrott und Recycling GmbH.

Assessment Rates

Pursuant to section 751(a)(2)(C) of the Act and 19 CFR 351.212(b), Commerce has determined, and U.S. Customs and Border Protection (CBP) shall assess, countervailing duties on all appropriate entries of subject merchandise in accordance with the final results of this review, for BGH at the applicable ad valorem assessment rates listed for the POR (i.e., January 1, 2023, to December 31, 2023). Commerce intends to issue assessment instructions to CBP for these companies no earlier than 35 days after the publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amounts shown for the POR for the company listed above on shipments of subject merchandise entered, or withdrawn from warehouse, for consumption on or after the date of publication of the final results of this administrative review. For all non-reviewed firms subject to the Order, we will instruct CBP to continue to collect cash deposits of estimated countervailing duties at the most recent company-specific or all-others rate applicable to the company, as appropriate. These cash deposit requirements, effective upon publication of these final results, shall remain in effect until further notice.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i)(1) of the Act, and 19 CFR 351.221(b)(5).

Dated: July 22, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation

V. Analysis of Programs

VI. Discussion of the Issues

Comment 1: Whether the Electricity Price Brake Act (StromPBG) Is Specific

Comment 2: Whether the German Carbon Leakage Regulation (BECV) Is a Countervailable Subsidy

Comment 3: Whether the Climate Protection Technology Program (CPTP) Is Specific

Comment 4: Whether the Special Equalization Scheme (SES)—Reduced Surcharge Programs Are Countervailable

Comment 5: Whether the Electricity Tax Act (StromStG) and the Energy Tax Act (EnergieStG) Programs Are Specific

Comment 6: Whether the Free Allocation of EU ETS Allowances Is Countervailable

Comment 7: Whether the EU ETS—Compensation of Indirect CO2 Costs Program Is Countervailable

VII. Recommendation

[FR Doc. 2025-14216 Filed 7-25-25; 8:45 am]

BILLING CODE 3510-DS-P